ENVIRONMENTAL PROTECTION AGENCY

[FRL-9964-90-OA]

Environmental Laboratory Advisory Board; Notice of Charter Renewal

AGENCY: Environmental Protection Agency (EPA).

ACTION: Notice of charter renewal.

Notice is hereby given that the Environmental Protection Agency (EPA) has determined that, in accordance with the provisions of the Federal Advisory Committee Act (FACA), 5 U.S.C. App. 2, the Environmental Laboratory Advisory Board (ELAB) is in the public interest and is necessary in connection with the performance of EPA's duties. Accordingly, ELAB will be renewed for an additional two-year period. The purpose of the ELAB is to provide advice and recommendations to the Administrator of EPA on issues associated with enhancing EPA's measurement programs and the systems and standards of environmental accreditation. Inquiries may be directed to Lara P. Phelps, Senior Advisor, U.S. Environmental Protection Agency, Office of the Science Advisor, 109 T W Alexander Drive (E243-05), Research Triangle Park, NC 27709 or by email: phelps.lara@epa.gov.

Dated: July 12, 2017.
Robert J. Kavlock,
EPA Science Advisor.

[FR Doc. 2017-14825 Filed 7-18-17; 8:45 am]

BILLING CODE 6560-50-P